DEPARTMENT OF AGRICULTURE

Rural Utilities Service

[Docket #: RUS-23-ELECTRIC-0017]

Central Electric Power Cooperative, Inc.; Notice of Availability of a Final Environmental Impact Statement

AGENCY: Rural Utilities Service, USDA.

ACTION: Notice of availability of a final environmental impact statement.

SUMMARY: Notice is hereby given that the Rural Utilities Service (RUS) has prepared a Final Environmental Impact Statement (EIS) for Central Electric Power Cooperative's (the Applicant/Central Electric) proposed McClellanville 115-kilovolt (kV) Transmission Project (Project) in South Carolina, to meet RUS's responsibilities under National Environmental Policy Act (NEPA) and their implementing regulations related to providing financial assistance to Central Electric for its share in constructing the proposed transmission line and associated infrastructure. The U.S. Forest Service, Francis Marion National Forest, and the U.S. Army Corps of Engineers are cooperating agencies in the preparation of the EIS. The Final EIS analyzes the environmental impacts of constructing, operating, and maintaining a new 23.3-mile, 115-kV transmission line along the Jamestown corridor (Proposed Action), and two other alternatives, that includes the Jamestown Alternative (a variation of the Proposed Action) and the Charity Alternative. It also addresses comments received during the comment period for the Supplemental Draft EIS, which was prepared in 2019. As part of its broad environmental review process, RUS must consider the effect of the Project on historic properties in accordance with the National Historic Preservation Act (section 106) and its implementing regulation, “Protection of Historic Properties”. This Notice of Availability also serves as a notice of proposed wetland and floodplain actions.

DATES: Written comments on this Final EIS will be accepted for 45 days following publication of the Environmental Protection Agency's environmental impact statement notice of receipt in the Federal Register. Notices of Availability of the Final EIS will also be published in local newspapers. After a 45-day comment period on the Final EIS, RUS may prepare a Record of Decision. The environmental compliance and permitting process is expected to conclude in 2025.

ADDRESSES: The Final EIS and other Project-related information are available at the following RUS website: https://www.rd.usda.gov/resources/environmental-studies/impact-statement/mcclellanville-115kv-transmission-line-berkeley-charleston-and-georgetown-counties-sc. Comments can be submitted by email at: mcclellanvilleeis@usda.gov or by mail to: WSP USA, Subject: McClellanville Transmission Line Project, 1308 Patton Ave., Asheville, NC 28806, during the comment period.

All comments submitted during the comment period will become part of the public record. Comments submitted after the comment period will not be considered by the agency. Before including your address, telephone number, email address, or other personal identifying information in your comment, you should be aware that your entire comment—including your personal identifying information—may be made publicly available at any time. All comments will be reviewed and included in the Record of Decision.

FOR FURTHER INFORMATION CONTACT: To download electronic copies of the Final EIS or previous NEPA analyses and documents, go to: https://www.rd.usda.gov/resources/environmental-studies/impact-statement/mcclellanville-115kv-transmission-line-berkeley-charleston-and-georgetown-counties-sc.

For information specific to this notice contact Suzanne Kopich, Environmental Protection Specialist, Rural Utilities Service, Rural Development, telephone 202-961-8514. Electronic comments may be submitted at mcclellanvilleeis@usda.gov during the open comment period.

SUPPLEMENTARY INFORMATION: RUS is serving as the lead federal agency for the preparation of this EIS. The United States Forest Service (USFS) and U.S. Army Corps of Engineers (USACE), Charleston District, are cooperating agencies. Because the proposed transmission line would cross the Francis Marion National Forest (FMNF), USFS has responsibility to decide whether to issue a Special Use Permit (SUP) to Central Electric for authorization of the Project on National Forest System lands. USACE has primary responsibility to issue permits for work in, over, or otherwise affecting navigable waters of the United States and to authorize the discharge of dredged or fill material into jurisdictional wetlands.

The purpose of the proposed Project is to address system capacity, system reliability, human safety, and power quality issues resulting from the current use of the aging distribution line supplying electricity to Berkeley Electric, supplying the McClellanville area. Central Electric is a not-for-profit electric generation and transmission cooperative made up of twenty (20) retail electric cooperatives in South Carolina that provide wholesale power to its member-owners, including Berkeley Electric Incorporated. Organized in 1948, Central Electric designs and builds transmission lines that connect the state's bulk transmission system (the coordinated and integrated Central Electric/South Carolina Public Service Authority [Santee Cooper] system) and the member-cooperative system substations. The 20 electric cooperatives own Central Electric and are self-regulated for rates and follow state and federal construction standards. South Carolina Code of State Regulations, chapter 103-304, Public Service Commission, Territory and Certificates, states in part, that no electrical utility supplying electric service to the public shall hereafter begin the construction or operation of any electric facilities, or of any extension thereof, without first obtaining from the commission a certificate that public convenience and necessity requires or will require such construction or operation. The regulation further states that the regulation shall not be construed to require any such electrical utility to secure a certificate for any extension within a municipality or district within which it has heretofore lawfully commenced operations, or for an extension within or to territory already served by it, necessary in the ordinary course of its business, or for an extension into territory contiguous to that already occupied by it and not receiving similar service from another electrical utility. This proposed project is considered an extension of service within an area Central Electric currently serves. Additionally, certificates of Environmental Compatibility and Public Convenience and Necessity are issued by the commission for transmission projects that are 125 kV or more. Central Electric's proposed transmission line is 115 kV, and therefore, no certificate is required from the commission for construction of the proposed transmission line.

The Board of Trustees, made up of members from each of the 20 electric cooperatives, identified the need to address system capacity, system reliability, and power quality issues resulting from the current use of the aging distribution line supplying electricity to Berkeley Electric. Currently, around 1,000 residents in the McClellanville area rely on an existing 40-mile-long distribution circuit that suffers from poor reliability and power quality, and limitations from:

(1) a Winter Weather Operating Agreement that forces Berkeley Electric to switch operations to comply with system amperage limits, while putting residents at an elevated risk for outages and interrupted service; and

(2) an outdated distribution network rather than higher efficiency, more reliable transmission line service.

Berkeley Electric and Dominion (two of the 20 electric cooperatives) entered into a Winter Weather Operating Agreement in 2017 to provide reliable electric service to Berkeley Electric customers in the McClellanville area during periods of peak demand and to prevent system overload. The Winter Weather Operating Agreement indicated that Berkeley Electric load had grown to the point that in order to protect overload of Dominion facilities, Dominion must switch their feed from Berkeley Electric, forcing Berkeley Electric to source an alternate resource in real time to maintain service. When temperatures are forecast to fall below 23 degrees Fahrenheit north of the Mount Pleasant and McClellanville areas, or if electrical demand is expected to exceed 175 amps per phase, Berkeley Electric will be dispatched to switch load off the metering point and over to the Berkeley Electric Commonwealth substation. It is during these critical periods that the Berkeley Electric customers in the McClellanville area are most vulnerable and at the greatest risk of failure to receive service. Although the Winter Weather Operating Agreement was developed to secure the greatest amount of reliable electrical service during periods of the greatest demand, it subjects the Berkeley Electric customers in the McClellanville area to the greatest risk for outages and interrupted services during critical periods.

These factors result in substandard electric service in the McClellanville area that cannot accommodate existing load demand or future load growth. To improve the inadequate service to this area, Central Electric has been pursuing a new transmission service point in McClellanville since 1999.

A Draft EIS for the Project was prepared in 2014 and made available for public review and comment. The 2014 Draft EIS evaluated six (6) potential transmission corridors to the proposed McClellanville substation, all of which originated from the Belle Isle Substation in Georgetown, SC, and followed roughly along U.S. Highway 17 and crossed the Santee River near the highway bridge. In 2017, an independent engineering study was completed to assess the merit of the proposed alternatives based on need, impact, and cost, which supplemented previous corridor-siting studies that included an Alternatives Evaluation Study and a Macro-Corridor Study. These and other project documents can be found on the RUS project website at https://www.rd.usda.gov/resources/environmental-studies/impact-statement/mcclellanville-115kv-transmission-line-berkeley-charleston-and-georgetown-counties-sc.

Independent studies of system reliability indicate that a new, 115-kV transmission line and associated substation is the best solution to serve the long-term needs of the McClellanville area. RUS has performed a two-stage alternatives development and screening process for the proposed Project. Stage 1 considered alternative technologies; Stage 2 considered alternative locations for the Project.

RUS, in coordination with the Applicant, analyzed a range of technological alternatives to determine if they would be appropriate to meet the Project purpose and need. The analyzed alternatives included:

(1) installing onsite generation at the proposed McClellanville Substation and energy storage;

(2) rebuilding the existing distribution line system;

(3) promoting and improving energy efficiency and conservation, and distributed renewables generation; and

(4) providing battery storage in McClellanville.

The evaluated alternatives were discussed within the documents listed below, which are located at https://www.rd.usda.gov/resources/environmental-studies/impact-statement/mcclellanville-115kv-transmission-line-berkeley-charleston-and-georgetown-counties-sc. These evaluated alternatives were not considered as reasonable alternatives for meeting the purpose and need for the Project and were not carried forward for detailed analysis.

• Revised Macro-Corridor Study Report, 2010;

• McClellanville Power Supply Alternatives Evaluation Study, 2005;

• Independent Engineering Study, 2017;

• McClellanville Battery Energy Storage Study, 2020; and

• Supplemental Analysis on Private Lands, 2024

RUS prepared a Supplemental Draft EIS in 2019, largely based on public comments opposed to the transmission line crossing the Santee River, and to comply with updates to RUS' environmental policies and procedures. The Supplemental Draft EIS (SDEIS) evaluated two (2) new alternative corridors (Jamestown and Charity) and two of the originally proposed Belle Isle corridors (Options B and C); it also evaluated the No Action alternative. Public comments received during the public review and comment period on the SDEIS strongly opposed the Belle Isle corridors due to the presence of sensitive ecological and cultural resources, therefore the two Belle Isle corridors are presented early in the Final EIS but are eliminated as alternatives further considered in the analysis. The Jamestown corridor (Proposed Action), Jamestown alternative and Charity alternative have been carried through in the Final EIS and the Jamestown corridor was identified as the preferred corridor because of its combination of overall length, the amount that parallels existing Right of Ways (ROW) and the ability to minimize effects on residences, sensitive habitats, conservation lands, and cultural and historic resources. Approximately fifty-eight percent of the 23.3-mile Jamestown corridor would cross National Forest System lands on the FMNF and the 31 mile Charity corridor would cross roughly seventy-two percent of those lands. A preliminary 75-foot ROW within the 600-foot corridor was identified and analyzed for this EIS. The 75-foot ROW is the maximum ROW width for Project construction and operations and maintenance (O&M). However, the final ROW width could be less in places where it overlaps existing road and utility ROWs. The final ROW would be located based on site-specific engineering, and environmental and cultural resource surveys.

RUS has carefully studied public health and safety, environmental impacts, and engineering aspects of the proposed project. RUS used input provided by government agencies, private organizations, and the public in the preparation of the Final EIS. RUS has considered all comments received on the Draft EIS and revised the Final EIS accordingly. Following the 45-day comment period for the Final EIS, RUS may prepare a Record of Decision (ROD). A Notice announcing the availability of the ROD will be published in the Federal Register and in local newspapers. Additionally, letters and emails will be sent to stakeholders.

The Final EIS serves as a detailed written record of the environmental analysis completed for the proposed Project and is intended to provide Agency officials with sufficient information to make a decision regarding the significance of the environmental impacts of its potential federal action. The proposed Project is subject to the jurisdiction of the USFS, and the FMNF Forest Supervisor will use the Final EIS to make decisions related to requirements for issuing a SUP to Central Electric. Publication of this Final EIS is not a decision on the Applicant's loan application and therefore not an approval of the expenditure of federal funds. Based on the analysis disclosed in this Final EIS, the RUS decision-maker will determine whether to provide financing assistance for the Project and, if issued, any Project-specific conditions established as part of the loan.

This Notice of Availability also serves as a notice of proposed wetland and floodplain actions. The proposed Project would involve unavoidable impacts to wetlands and floodplains. The proposed Project was planned to avoid and minimize impacts to wetlands and waterways to the extent practicable during the site selection and design phase of the Project. Appropriate sediment and erosion controls and best management practices would be implemented at all wetland/upland and streambank boundaries. Impacts to wetlands would be permitted in accordance with USACE and state requirements. The timing of construction would integrate time of year restrictions and protections for sensitive resources and follow permit conditions (e.g., time-of-year restrictions for T&E species).

In accordance with section 106 of the National Historic Preservation Act and its implementing regulation, “Protection of Historic Properties” (36 CFR part 800) and as part of its broad environmental review process, RUS must take into account the effect of the proposed project on historic properties. In coordinating section 106 compliance, the RUS is preparing a project specific Programmatic Agreement (PA) to govern the remaining section 106 process. The cultural resource analysis is a resource that the public may be interested in commenting on during this comment period. The draft PA is an appendix to the Final EIS. Any final action by RUS related to the proposed project will be subject to, and contingent upon, compliance with all relevant Federal, State and local environmental laws and regulations, and completion of the environmental review requirements as prescribed in the RUS Environmental Policies and Procedures (7 CFR part 1970).

Andrew Berke,
Administrator, Rural Utilities Service, U.S. Department of Agriculture.

[FR Doc. 2024-23821 Filed 10-17-24; 8:45 am]

BILLING CODE 3410-15-P